ENVIRONMENTAL PROTECTION AGENCY

[EPA-HQ-OAR-2021-0112; FRL-9557-01-OMS]

Information Collection Request Submitted to OMB for Review and Approval; Comment Request; NESHAP for Printing, Coating and Dyeing of Fabrics and Other Textiles (Renewal)

AGENCY: Environmental Protection Agency (EPA).

ACTION: Notice.

SUMMARY: The Environmental Protection Agency (EPA) has submitted an information collection request (ICR), NESHAP for Printing, Coating and Dyeing of Fabrics and Other Textiles (EPA ICR Number 2071.10, OMB Control Number 2060-0522), to the Office of Management and Budget (OMB) for review and approval in accordance with the Paperwork Reduction Act. This is a proposed extension of the ICR, which is currently approved through March 31, 2022. Public comments were previously requested, via the Federal Register, on April 13, 2021 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before March 11, 2022.

ADDRESSES: Submit your comments, referencing Docket ID Number EPA-HQ-OAR-2021-0112, online using www.regulations.gov (our preferred method) or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: Supporting documents, which explain in detail the information that the EPA will be collecting, are available in the public docket for this ICR. The docket can be viewed online at https://www.regulations.gov, or in person, at the EPA Docket Center, WJC West Building, Room 3334, 1301 Constitution Ave. NW, Washington, DC. The telephone number for the Docket Center is 202-566-1744. For additional information about EPA's public docket, visit: http://www.epa.gov/dockets.

Abstract: The National Emission Standards for Hazardous Air Pollutants (NESHAP) for Printing, Coating and Dyeing of Fabrics and Other Textiles apply to each existing, new, or reconstructed source involved in printing, coating, slashing, dyeing or finishing of fabric and other textiles. In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance with 40 CFR part 63, subpart OOOO.

Form Numbers: 5900-530.

Respondents/affected entities: Printing, coating, slashing, dyeing, or finishing of fabric and other textiles facilities.

Respondent's obligation to respond: Mandatory (40 CFR part 63, subpart OOOO).

Estimated number of respondents: 44 (total).

Frequency of response: Initially and semiannually.

Total estimated burden: 7,080 hours (per year). Burden is defined at 5 CFR 1320.3(b).

Total estimated cost: $960,000 (per year), which includes $123,000 in annualized capital/startup and/or operation & maintenance costs.

Changes in the estimates: There is an increase in burden from the most-recently approved ICR as currently identified in the OMB Inventory of Approved Burdens. This is due to three considerations. This ICR incorporates the incremental burden from the 2019 RTR amendment (ICR No. 2071.09) into the total cost of the rule. The regulations were revised in the 2019 RTR amendment adding a requirement to periodically test add-on control devices, resulting in an increase in capital/startup costs for this testing, as well as for increased labor burden for conducting the tests, submitting reports, and keeping records. An additional facility that is subject to this subpart was identified in a search of EPA's ECHO database. This facility became subject to this subpart after the 2019 RTR; therefore, the respondent counts in this ICR renewal are updated to include this facility.

Courtney Kerwin,
Director, Regulatory Support Division.

[FR Doc. 2022-02658 Filed 2-8-22; 8:45 am]

BILLING CODE 6560-50-P